POSTAL SERVICE

Sunshine Act Meetings

FEDERAL REGISTER CITATION OF PREVIOUS ANNOUNCEMENT: 89 FR 44718.

PREVIOUSLY ANNOUNCED TIME AND DATE OF THE MEETING: Meeting of the Board of Governors, Tuesday, June 11, 2024, at 11:00 a.m.

PLACE: Washington, DC.

STATUS: Closed.

CHANGES IN THE MEETING: Time and date of meeting changed.

REVISED TIME: Tuesday, July 2, 2024, at 4:00 p.m.

CONTACT PERSON FOR MORE INFORMATION: Michael J. Elston, Secretary of the Board, U.S. Postal Service, 475 L'Enfant Plaza SW, Washington, DC 20260-1000. Telephone: (202) 268-4800.

Michael J. Elston,
Secretary.

[FR Doc. 2024-12827 Filed 6-7-24; 11:15 am]

BILLING CODE 7710-12-P